NUCLEAR REGULATORY COMMISSION

[Docket No. 030-34998]

Notice of Availability of Environmental Assessment and Finding of No Significant Impact for License Amendment for Gibraltar Laboratories, Inc.'s Facility in Fairfield, NJ

AGENCY: Nuclear Regulatory Commission.

ACTION: Notice of availability.

FOR FURTHER INFORMATION CONTACT: Steven Courtemanche, Commercial and R&D Branch, Division of Nuclear Materials Safety, Region I, 475 Allendale Road, King of Prussia, Pennsylvania, 19406, telephone (610) 337-5075, fax (610) 337-5269; or by e-mail: src@nrc.gov.

SUPPLEMENTARY INFORMATION:

I. Introduction

The U.S. Nuclear Regulatory Commission (NRC) is considering the issuance of a license amendment to Gibraltar Laboratories, Inc., for Materials License No. 29-30516-01, to authorize release of its facility in Fairfield, New Jersey for unrestricted use and terminate the license. NRC has prepared an Environmental Assessment (EA) in support of this proposed action in accordance with the requirements of 10 CFR part 51. Based on the EA, the NRC has concluded that a Finding of No Significant Impact (FONSI) is appropriate. The amendment will be issued following the publication of this Notice.

II. EA Summary

The purpose of the proposed action is to authorize the release of the licensee's Fairfield, New Jersey facility for unrestricted use and terminate the license. Gibraltar Laboratories, Inc., was authorized by NRC from 1999 to use radioactive materials for research and development purposes at the site. On August 27, 2003, Gibraltar Laboratories, Inc., requested that NRC release the facility for unrestricted use. This licensing action was voided because insufficient information was provided by Gibraltar Laboratories, Inc., to allow for the release of the facility for unrestricted use. On October 11, 2005, Gibraltar Laboratories, Inc., provided the additional information requested on August 27, 2003. Gibraltar Laboratories, Inc., has conducted surveys of the facility and provided information to the NRC to demonstrate that the site meets the license termination criteria in subpart E of 10 CFR part 20 for unrestricted release.

The NRC staff has prepared an EA in support of the license amendment. The facility was remediated and surveyed prior to the licensee requesting the license amendment. The NRC staff has reviewed the information and final status survey submitted by Gibraltar Laboratories, Inc. Based on its review, the staff has determined that there are no additional remediation activities necessary to complete the proposed action. Therefore, the staff considered the impact of the residual radioactivity at the facility and concluded that since the residual radioactivity meets the requirements in subpart E of 10 CFR part 20, a Finding of No Significant Impact is appropriate.

III. Finding of No Significant Impact

The staff has prepared the EA (summarized above) in support of the license amendment to terminate the license and release the facility for unrestricted use. The NRC staff has evaluated Gibraltar Laboratories, Inc.'s request and the results of the surveys and has concluded that the completed action complies with the criteria in subpart E of 10 CFR part 20. The staff has found that the radiological environmental impacts from the action are bounded by the impacts evaluated by NUREG-1496, Volumes 1-3, “Generic Environmental Impact Statement in Support of Rulemaking on Radiological Criteria for License Termination of NRC-Licensed Facilities” (ML042310492, ML042320379, and ML042330385). Additionally, no non-radiological or cumulative impacts were identified. On the basis of the EA, the NRC has concluded that there are no significant environmental impacts from the proposed action, and has determined not to prepare an environmental impact statement for the proposed action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: Environmental Assessment [ML060830021]; Initial request for termination of license with survey results for Gibraltar Laboratories, Inc., 122 Fairfield Road, Fairfield, New Jersey, dated August 27, 2003 [ML032461491]; Request for Additional Information (RAI) dated September 11, 2003 [ML032541251]; Gibraltar Laboratories, Inc.'s response dated November 13, 2003 [ML033370153]; Facsimile from Gibraltar Laboratories, Inc., received November 14, 2003, with additional information concerning survey instruments [ML033380939]; Voidance of Licensing Action by U.S. NRC pending submission of required information [ML033240028]; and Final Status Survey Results for Gibraltar Laboratories, Inc., 122 Fairfield Road, Fairfield, New Jersey, dated October 11, 2005 [ML052940339]. Persons who do not have access to ADAMS or who encounter problems in accessing the documents located in ADAMS, should contact the NRC PDR Reference staff by telephone at (800) 397-4209 or (301) 415-4737, or by e-mail to pdr@nrc.gov.

Documents related to operations conducted under this license not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania, this 28th day of March, 2006.
For the Nuclear Regulatory Commission.
James P. Dwyer,
Chief, Commercial and R&D Branch, Division of Nuclear Materials Safety Region I.

[FR Doc. E6-5213 Filed 4-10-06; 8:45 am]

BILLING CODE 7590-01-P